DEPARTMENT OF COMMERCE

International Trade Administration

[A-552-801]

Certain Frozen Fish Fillets From the Socialist Republic of Vietnam: Final Results of Antidumping Duty New Shipper Review; 2014-2015

AGENCY: Enforcement and Compliance, International Trade Administration, Department of Commerce.

SUMMARY: The Department of Commerce (“the Department”) published the Preliminary Results of the new shipper review of the antidumping duty order on certain frozen fish fillets (“fish fillets”) from the Socialist Republic of Vietnam (“Vietnam”) on January 21, 2016.¹ The period of review (“POR”) is August 1, 2014, through January 1, 2015. We provided interested parties an opportunity to comment on the Preliminary Results. Based upon our analysis of the comments and information received, we made changes to the margin calculations for the final results. The final dumping margin is listed below in the “Final Results of the New Shipper Review” section of this notice.

¹ See Certain Frozen Fish Fillets from the Socialist Republic of Vietnam: Preliminary Results of the Antidumping Duty New Shipper Review; 2014-2015, 81 FR 5709 (January 21, 2016) (“Preliminary Results”), and accompanying Preliminary Decision Memorandum.

DATES: Effective Date: July 7, 2016.

FOR FURTHER INFORMATION CONTACT: Paul Walker or Kenneth Hawkins, AD/CVD Operations, Office V, Enforcement and Compliance, International Trade Administration, U.S. Department of Commerce, 14th Street and Constitution Avenue NW., Washington, DC 20230; telephone: 202-482-0413 or 202-482-6491, respectively.

SUPPLEMENTARY INFORMATION:

Background

The Department published the Preliminary Results on January 21, 2016.² On April 4, 2016, the Department extended the deadline for the final results to June 27, 2016.³ The Department conducted a verification of Hai Huong Seafood Joint Stock Company (“HHFISH”) between April 11, 2016, and April 13, 2016.⁴ Between June 2, 2016 and June 8, 2016, Petitioners submitted their case brief and HHFISH submitted a rebuttal brief.

² See Preliminary Results; see also Memorandum to the Record from Ron Lorentzen, Acting A/S for Enforcement & Compliance, regarding “Tolling of Administrative Deadlines As a Result of the Government Closure During Snowstorm Jonas,” dated January 27, 2016, extending all administrative deadlines by four business days.

³ See Memorandum to Christian Marsh, Deputy Assistant Secretary for Antidumping and Countervailing Duty Operations, through James C. Doyle, Director, Office V, Antidumping and Countervailing Duty Operations from Kenneth Hawkins, International Trade Analyst, Office V, Antidumping and Countervailing Duty Operations, regarding Certain Frozen Fish Fillets from the Socialist Republic of Vietnam: Extension of Deadline for Final Results of 2014-2015 New Shipper Review, dated April 4, 2016.

⁴ See Memorandum to the File, from Matthew Renkey and Kenneth Hawkins, Case Analysts, “Verification of the Sales and Factors of Production Responses of Hai Huong Seafood Joint Stock Company in the 2014-2015 New Shipper Review of Certain Frozen Fish Fillets from the Socialist Republic of Vietnam,” dated May 24, 2016.

Scope of the Order

The product covered by the order is frozen fish fillets, including regular, shank, and strip fillets and portions thereof, whether or not breaded or marinated, of the species Pangasius Bocourti, Pangasius Hypophthalmus (also known as Pangasius Pangasius) and Pangasius Micronemus. These products are classifiable under tariff article code 0304.62.0020 (Frozen Fish Fillets of the species Pangasius, including basa and tra), and may enter under tariff article codes 0305.59.0000, 1604.19.2100, 1604.19.3100, 1604.19.4100, 1604.19.5100, 1604.19.6100 and 1604.19.8100 of the Harmonized Tariff Schedule of the United States (“HTSUS”).⁵ Although the HTSUS subheadings are provided for convenience and customs purposes, the written description of the scope of the order is dispositive.⁶

⁵ Until June 30, 2004 these products were classifiable under HTSUS 0304.20.6030, 0304.20.6096, 0304.20.6043 and 0304.20.6057. From July 1, 2004 until December 31, 2006 these products were classifiable under HTSUS 0304.20.6033. From January 1, 2007 until December 31, 2011 these products were classifiable under HTSUS 0304.29.6033. On March 2, 2011 the Department added two HTSUS numbers at the request of U.S. Customs and Border Protection (“CBP”) that the subject merchandise may enter under: 1604.19.2000 and 1604 19.3000, which were changed to 1604.19.2100 and 1604.19.3100 on January 1, 2012. On January 1, 2012 the Department added the following HTSUS numbers at the request of CBP: 0304.62.0020, 0305.59.0000, 1604.19.4100, 1604.19.5100, 1604.19.6100 and 1604.19.8100.

⁶ For a complete description of the scope of the order, see Memorandum to Paul Piquado, Assistant Secretary for Enforcement and Compliance, from Christian Marsh, Deputy Assistant Secretary for Antidumping and Countervailing Duty Operations, regarding Certain Frozen Fish Fillets from the Socialist Republic of Vietnam: Issues and Decision Memorandum for the Final Results of Antidumping Duty New Shipper Review: Certain Frozen Fish Fillets from the Socialist Republic of Vietnam, at 2-3 (“Issues and Decision Memorandum”), dated concurrently with and hereby adopted by this notice.

Analysis of Comments Received

All issues raised in the case and rebuttal briefs by parties in this review are addressed in the Issues and Decision Memorandum. A list of the issues which parties raised is attached to this notice as an appendix. The Issues and Decision Memorandum is a public document and is on file in the Central Records Unit (“CRU”), Room B8024 of the main Department of Commerce building, as well as electronically via Enforcement and Compliance's Antidumping and Countervailing Duty Centralized Electronic Service System (“ACCESS”). ACCESS is available to registered users at http://access.trade.gov and in the CRU. In addition, a complete version of the Issues and Decision Memorandum can be accessed directly on the Internet at http://enforcement.trade.gov/frn/index.html. The signed Issues and Decision Memorandum and the electronic version of the Issues and Decision Memorandum are identical in content.

Changes Since the Preliminary Results

Based on a review of the record and comments received from interested parties regarding our Preliminary Results, and for the reasons explained in the Issues and Decision Memorandum, we revised the margin calculations for HHFISH.⁷

⁷ See Issues and Decision Memorandum.

Final Results of the Review

The dumping margin for the final results of this new shipper review is as follows:

Exporter/producer | Weighted- average margin (dollars/ kilogram) ⁸
Hai Huong Seafood Joint Stock Company | 1.25

Disclosure

The Department will disclose calculations performed for these final results to the parties within five days of the date of publication of this notice, in accordance with section 351.224(b) of the Department's regulations.

⁸ In the third administrative review of this order, the Department determined that it would calculate per-unit assessment and cash deposit rates for all future reviews. See Certain Frozen Fish Fillets from the Socialist Republic of Vietnam: Final Results of Antidumping Duty Administrative Review and Partial Rescission, 73 FR 15479 (March 24, 2008).

Assessment Rates

Pursuant to section 751(a)(2)(A) of the Act and 19 CFR 351.212(b), the Department will determine, and CBP shall assess, antidumping duties on all appropriate entries of subject merchandise in accordance with the final results of this review. The Department intends to issue appropriate assessment instructions directly to CBP 15 days after publication of the final results of this new shipper review.

For assessment purposes, we calculated importer (or customer)-specific assessment rates for merchandise subject to this review. We will continue to direct CBP to assess importer specific assessment rates based on the resulting per-unit (i.e., per kg) rates by the weight in kgs of each entry of the subject merchandise during the POR. Specifically, we calculated importer specific duty assessment rates on a per-unit rate basis by dividing the total dumping margins (calculated as the difference between normal value and export price, or constructed export price) for each importer by the total sales quantity of subject merchandise sold to that importer during the POR. If an importer (or customer)-specific assessment rate is de minimis (i.e., less than 0.50 percent), the Department will instruct CBP to assess that importer (or customer's) entries of subject merchandise without regard to antidumping duties, in accordance with 19 CFR 351.106(c)(2).

Cash Deposit Requirements

The following cash deposit requirements will be effective upon publication of the final results of this new shipper review for all shipments of the subject merchandise entered, or withdrawn from warehouse, for consumption on or after the publication date, as provided for by section 751(a)(2)(C) of the Act: (1) For subject merchandise produced and exported by HHFISH, the cash deposit rate will be the rate established in the final results of this new shipper review (except, if the rate is zero or de minimis, i.e., less than 0.5 percent, a zero cash deposit rate will be required for the specific producer-exporter combination listed above); (2) for subject merchandise exported by HHFISH, but not manufactured by HHFISH, the cash deposit rate will continue to be the Vietnam-wide rate (i.e., $2.35/Kilogram); and (3) for subject merchandise manufactured by HHFISH, but exported by any other party, the cash deposit rate will be the Vietnam-wide rate (i.e., $2.35/Kilogram). The cash deposit requirement, when imposed, shall remain in effect until further notice.

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Notification Regarding Administrative Protective Order

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this new shipper review and notice in accordance with sections 751(a)(2)(B) and 777(i) of the Tariff Act of 1930, as amended, and 19 CFR 351.214.

Dated: June 27, 2016.
Paul Piquado,
Assistant Secretary for Enforcement and Compliance.

Appendix

List of Topics Discussed in the Final Decision Memorandum

Summary

Case Issues

Background

Scope of the Order

Discussion of the Issues

Comment I Application of Facts Available to HHFISH's Reported Factors of Production

Comment II By-products Sold During the POR

Comment III Corrections to the SAS Program

Recommendation

[FR Doc. 2016-16060 Filed 7-6-16; 8:45 am]

BILLING CODE 3510-DS-P